EQUAL EMPLOYMENT OPPORTUNITY COMMISSION

Notice of Sunshine Act Meeting

Agency Holding the Meeting: Equal Employment Opportunity Commission.

FEDERAL REGISTER Citation of Previous Announcement: 72 FR 26115, Tuesday, May 8, 2007.

Previously Announced Date and Time of Meeting: Wednesday, May 16, 2007, 9:30 a.m. Eastern Time.

Change in the Meeting:

Open Session:

Item Nos. 3. Full-Service Publication Storage and Distribution Center Contract has been removed from the Agenda.

Contact Person for More Information: Stephen Llewellyn, Acting Executive Officer, on (202) 663-4070.

Dated: May 10, 2007.
Stephen Llewellyn,
Acting Executive Officer, Executive Secretariat.

[FR Doc. 07-2386 Filed 5-10-07; 8:45 am]

BILLING CODE 6570-01-M